ENVIRONMENTAL PROTECTION AGENCY

[EPA-HQ-OW-2008; FRL-8689-4]

2008 Water Efficiency Leader Awards—Call for Applicants

AGENCY: Environmental Protection Agency (EPA).

ACTION: Notice.

SUMMARY: This notice announces the opening of the application period for the U.S. EPA's third annual Water Efficiency Leader Awards. The awards recognize those organizations and individuals who are providing leadership and innovation in water efficient products and practices. These awards are intended to help foster a nationwide ethic of water efficiency, as well as to inspire, motivate, and recognize efforts to improve water efficiency. This program will enable EPA to document “best practices”, share information, encourage an ethic of water efficiency, and create a network of water efficiency leaders. Recognition will be given on the basis of persuasive community or organizational leadership in the area of water efficiency, originality and innovativeness, national/global perspective and implications, and overall improvements in water efficiency. Actual (as opposed to anticipated) results are preferred and applicants should be able to demonstrate the amount of water saved. Candidates may be from anywhere in the United States, they may work in either the public or the private sector, and they may be either self-nominated or nominated by a third party. The following sectors are encouraged to apply: Corporations and Industry, Water Utilities, Government, Non-Governmental Organizations, and Individuals. Water utilities may be public or privately owned. Government includes, for example, Local, State, Tribal, and Federal Agencies, and Military bases. In order to be considered, applicants must have a satisfactory compliance record with respect to environmental regulations and requirements. Applications will be judged by a panel of national water efficiency experts from a variety of sectors. The panelists will provide recommendations to EPA, who will then make the final decision. EPA reserves the right to contact nominees for additional information should it be deemed necessary.

To Apply: Send a one page description (single sided) of the water efficient project being nominated. Also send a completed application form found at http://www.epa.gov/water/wel.

DATES: Applications must be postmarked by August 29, 2008 in order to be considered.

ADDRESSES: If using Express or Overnight Mail: Bob Rose, U.S. Environmental Protection Agency, 1201 Constitution Avenue, EPA East, Room 3226L, Washington, DC 20460.

If using First Class U.S. Postal Service: Bob Rose, U.S. Environmental Protection Agency, 1200 Pennsylvania Ave., NW., Mail Code 4101M, Washington, DC 20460.

If using e-mail: rose.bob@epa.gov.

Please only e-mail MS Word documents or PDF files. Also, please send a notice without any attachments indicating that a second e-mail with attachments will follow. Try to limit the file size to less than 3MB total.

Additional information on the recognition program is available at http://www.epa.gov/water/wel.

FOR FURTHER INFORMATION CONTACT: Bob Rose, Telephone: (202) 564-0322. E-mail: rose.bob@epa.gov.

Dated: July 3, 2008.
Benjamin H. Grumbles,
Assistant Administrator for Water.

[FR Doc. E8-15577 Filed 7-8-08; 8:45 am]

BILLING CODE 6560-50-P